FEDERAL COMMUNICATIONS COMMISSION

47 CFR Parts 51, 54, 61, and 69

[WCB: WC Docket No. 20-71; DA 25-508; FR ID 299746]

Wireline Competition Bureau Seeks To Refresh Record on Telephone Access Charges

AGENCY: Federal Communications Commission.

ACTION: Proposed rule.

SUMMARY: In this document, the Wireline Competition Bureau (Bureau) invites interested parties to update the record on issues in the Telephone Access Charges proceeding regarding various end-user charges associated with interstate access service offered by incumbent local exchange (LEC) carriers. These charges, called Telephone Access Charges for short, include: the Subscriber Line Charge, the Access Recovery Charge, the Presubscribed Interexchange Carrier Charge, the Line Port Charge, and the Special Access Surcharge.

DATES: Comments are due on or before August 6, 2025. Reply comments are due on or before August 21, 2025.

ADDRESSES: Interested parties may file comments and reply comments identified by WC Docket No. 20-71 using the Commission's Electronic Comment Filing System (ECFS) at https://www.fcc.gov/ecfs/. Parties choosing to file by paper must file an original and one copy of each filing. Filings can be sent by hand or messenger delivery, by commercial courier, or by the U.S. Postal Service. All filings must be addressed to the Secretary, Federal Communications Commission. Hand-delivered or messenger-delivered paper filings for the Commission's Secretary are accepted between 8:00 a.m. and 4:00 p.m. by the FCC's mailing contractor at 9050 Junction Drive, Annapolis Junction, MD 20701. All hand deliveries must be held together with rubber bands or fasteners. Any envelopes and boxes must be disposed of before entering the building. Commercial courier deliveries (any deliveries not by the U.S. Postal Service) must be sent to 9050 Junction Drive, Annapolis Junction, MD 20701. Filings sent by U.S. Postal Service First-Class Mail, Priority Mail, and Priority Mail Express must be sent to 45 L Street NE, Washington, DC 20554.

FOR FURTHER INFORMATION CONTACT: Marv Sacks, Pricing Policy Division of the Wireline Communications Bureau, at (202) 418-1520 or via email at marvin.sacks@fcc.gov.

SUPPLEMENTARY INFORMATION: This is a summary of a document requesting interested parties to refresh the record in the Commission's Notice of Proposed Rulemaking in WC Docket No. 20-71, FCC 20-40, released on April 1, 2020. 85 FR 30899. The full text of the document may be obtained at the following internet address: https://docs.fcc.gov/public/attachments/DA-25-508A1.pdf. To request materials in accessible formats for people with disabilities (Braille, large print, electronic files, audio format), send an email to fcc504@fcc.gov, or call the Consumer and Governmental Affairs Bureau at (202) 418-0530 (voice) or (202) 418-0432 (TTY).

Paperwork Reduction Act. This document does not contain proposed information collection requirements subject to the Paperwork Reduction Act of 1995, Public Law 104-13. In addition, therefore, it does not contain any proposed information collection burden for small business concerns with fewer than 25 employees, pursuant to the Small Business Paperwork Relief Act of 2002, Public Law 107-198, see 44 U.S.C. 3506(c)(4).

Providing Accountability Through Transparency Act. Consistent with the Providing Accountability Through Transparency Act, Public Law 118-9, a summary of this document will be available on https://www.fcc.gov/proposed-rulemakings.

Synopsis

1. By this document, the Wireline Competition Bureau (Bureau) invites interested parties to update the record on issues raised by the Commission in the 2020 NPRM (85 FR 30899) regarding various end-user charges associated with interstate access service offered by incumbent local exchange (LEC) carriers. These charges, called Telephone Access Charges for short, include: the Subscriber Line Charge, the Access Recovery Charge, the Presubscribed Interexchange Carrier Charge, the Line Port Charge, and the Special Access Surcharge.

2. In the document, the Commission invited comment on its proposal to eliminate ex ante pricing regulation of Telephone Access Charges and require incumbent and competitive LECs to detariff these charges. 47 CFR 51.915(e), 51.917(e), 69.115, 69.152, 69.153, 69.157. In addition, the Commission sought comment on an alternative approach under which it would eliminate ex ante price regulation and require detariffing of Telephone Access Charges only in areas where certain conditions are met. The Commission also sought comment on permissive detariffing of Telephone Access Charges for some categories of carriers. Given that some Telephone Access Charges are used to calculate contributions to the federal Universal Service Fund (USF) and other federal programs, and to calculate some high-cost universal service support, the Commission proposed ways to address these issues. Under this proposal a carriers would have the option to use traffic studies to determine its contributions base rather than the proposed safe harbor.

3. Over the past five years, local exchange carriers' market share has declined while mobile and interconnected VoIP providers' market share has increased. From December 2018 to June 2024, the share of total voice subscribers served by incumbent local exchange carriers decreased from about 10.0% to 4.8%. We seek comment on whether and how these marketplace trends, as well as any state regulatory changes, bear on the Commission's proposals or might affect any interested party's position on the Commission's proposals in the Notice. Has any market consolidation affected parties' positions on the questions in the Notice?

4. We seek to refresh the record on these issues consistent with the Commission's commitment to eliminate outdated and unnecessary regulations and in light of developments that may have occurred since the Notice was released. For instance, the Commission in a Public Notice, GN Docket No. 25-133, DA 25-219, released March 12, 2025, emphasized the importance of evaluating rules based on the following criteria: cost-benefit considerations, whether the rule places disproportionate burdens on regulated entities, experience gained from the rule's implementation, marketplace and technological changes, and whether changes in the broader regulatory context demonstrate that particular Commission rules are unnecessary or inappropriate. We encourage parties to supplement the record with additional comments addressing any of these points as they may relate to the Telephone Access Charges rules and other regulatory requirements at issue in the Notice.

5. The record also contains an alternative proposal filed by Frontier, Windstream and Consolidated (collectively, the Mid-Sized Carriers). We ask the Mid-Sized Carriers to update this proposal, if needed, and we invite any additional related comments. We also encourage the industry to reach a compromise and submit a unified proposal. Finally, parties are encouraged to update the record with any other applicable comments, information or data as a result of any other developments, including state regulatory changes, that may have occurred in the intervening years since this proceeding was initiated.

6. Regulatory Flexibility Analysis. The Notice included an Initial Regulatory Flexibility Analysis (IRFA) pursuant to 5 U.S.C. 603 of the potential impact on small entities of the Commission's proposals. No party submitted comments. The Bureau invites parties to file comments on the IRFA in light of this request to refresh the record.

7. Ex Parte Rules. The proceeding initiated by the Notice shall be treated as a “permit-but-disclose” proceeding in accordance with the Commission's ex parte rules. Persons making ex parte presentations must file a copy of any written presentation or a memorandum summarizing any oral presentation within two business days after the presentation (unless a different deadline applicable to the Sunshine period applies). Persons making oral ex parte presentations are reminded that memoranda summarizing the presentation must (1) list all persons attending or otherwise participating in the meeting at which the ex parte presentation was made, and (2) summarize all data presented and arguments made during the presentation. If the presentation consisted in whole or in part of the presentation of data or arguments already reflected in the presenter's written comments, memoranda or other filings in the proceeding, the presenter may provide citations to such data or arguments in his or her prior comments, memoranda, or other filings (specifying the relevant page and/or paragraph numbers where such data or arguments can be found) in lieu of summarizing them in the memorandum. Documents shown or given to Commission staff during ex parte meetings are deemed to be written ex parte presentations and must be filed consistent with rule § 1.1206(b). In proceedings governed by rule § 1.49(f) or for which the Commission has made available a method of electronic filing, written ex parte presentations and memoranda summarizing oral ex parte presentations, and all attachments thereto, must be filed through the electronic comment filing system available for that proceeding, and must be filed in their native format (e.g., .doc, .xml, .ppt, searchable .pdf). Participants in this proceeding should familiarize themselves with the Commission's ex parte rules.

Federal Communications Commission.
Irina Asoskov,
Assistant Chief, Pricing Policy Division, Wireline Competition Bureau.

[FR Doc. 2025-12583 Filed 7-3-25; 8:45 am]

BILLING CODE 6712-01-P